DEPARTMENT OF TRANSPORTATION

Federal Railroad Administration

[Docket No. FRA-2017-0008-N-3]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before June 25, 2018.

ADDRESSES: Submit written comments on the ICR activities by mail to either: Mr. Robert Brogan, Information Collection Clearance Officer, Office of Railroad Safety, Regulatory Analysis Division, RRS-21, Federal Railroad Administration, 1200 New Jersey Avenue SE, Room W33-497, Washington, DC 20590; or Ms. Kim Toone, Information Collection Clearance Officer, Office of Information Technology, RAD-20, Federal Railroad Administration, 1200 New Jersey Avenue SE, Room W34-212, Washington, DC 20590. Commenters requesting FRA to acknowledge receipt of their respective comments must include a self-addressed stamped postcard stating, “Comments on OMB Control Number 2130-0505,” and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292) or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Inspection and Maintenance of Steam Locomotives (Formerly Steam Locomotive Inspection).

OMB Control Number: 2130-0505.

Abstract: The Locomotive Boiler Inspection Act (LBIA) of 1911 required each railroad subject to the Act to file copies of its rules and instructions for the inspection of locomotives. The original LBIA was expanded to cover all steam locomotives and tenders, and all their parts and appurtenances. As amended, this Act requires carriers to make inspections and to repair defects to ensure the safe operation of steam locomotives. Currently, the collection of information is used primarily by tourist or historic railroads and by locomotive owners/operators to provide a record for each day a steam locomotive is placed in service, as well as a record that the required steam locomotive inspections are completed. The collection of information is also used by FRA and State rail safety inspectors to verify that necessary safety inspections and tests have been completed and to ensure that steam locomotives are indeed “safe and suitable” for service and are properly operated and maintained.

Type of Request: Extension without Change of a Currently Approved Information Collection.

Affected Public: Businesses.

Form(s): FRA-1, FRA-2, FRA-3, FRA-4, FRA-5.

Respondent Universe: 82 Steam Locomotive Owners/Operators.

Frequency of Submission: On occasion; annually.

Reporting Burden:

CFR section | Respondent universe | Total annual responses | Average time per response | Total annual burden hours
230.6—Waivers | 82 owners/operators | 2 waiver letters | 1 hour | 2
230.12—Conditions for movement—Non-Complying Locomotives | 82 owners/operators | 10 tags | 6 minutes | 1
230.14—31 Service Day Inspection—Notifications | 82 owners/operators 82 owners/operators | 120 reports 120 notifications | 860 minutes 5 minutes | 1,720 10
230.15—92 Service Day Inspection—Form 1 | 82 owners/operators | 120 reports | 980 minutes | 1,960
230.16—Annual Inspection—Form 3—Notifications | 82 owners/operators 82 owners/operators | 120 reports 120 notifications | 24.5 hours 5 minutes | 2,940 10
230.17—1,472 Service Day Inspection—Form 4 | 82 owners/operators | 12 forms | 500.5 hours | 6,006
230.6—Waivers | 82 owners/operators | 2 waiver letters | 1 hour | 2
230.12—Conditions for movement—Non-Complying Locomotives | 82 owners/operators | 10 tags | 6 minutes | 1
230.20—Alteration Reports—Boilers—Form 19 | 82 owners/operators | 5 reports | 3 hours | 15
230.21—Steam Locomotive Number Change | 82 owners/operators | 1 document | 2 minutes | .033
230.33—Welded Repairs/Alterations—Written Request to FRA for Approval—Unstayed Surfaces | 82 owners/operators 82 owners/operators | 5 letters 3 letters | 2 hours 2 hours | 10 6
230.34—Riveted Repairs/Alterations | 82 owners/operators | 2 requests | 2 hours | 4
230.49—Setting of Safety Relief Valves | 82 owners/operators | 10 tags | 60 minutes | 10
230.96—Main, Side, and Valve Motion Rods | 82 owners/operators | 1 letter | 8 hours | 8
Record Keeping Requirements
230.13—Daily Inspection Reports—Form 2 | 82 owners/operators | 3,650 reports | 60 minutes | 3,650
230.17—1,472 Service Day Inspection—Form 3 | 82 owners/operators | 12 reports | 15 minutes | 3
230.18—Service Day Report: Form 5 | 82 owners/operators | 150 reports | 15 minutes | 38
230.19—Posting of Copy—Form 1 & 3 | 82 owners/operators | 300 forms | 5 minutes | 25
230.41—Flexible Stay Bolts with Caps | 82 owners/operators | 20 entries | 120 hours | 2,400
230.46—Badge Plates | 82 owners/operators | 3 reports | 2 hours | 6
230.47—Boiler Number | 82 owners/operators | 1 stamping | 60 minutes | 1
230.75—Stenciling Dates of Tests and Cleaning | 82 owners/operators | 50 tests | 30 minutes | 25
230.98—Driving, Trailing, and Engine Truck Axles—Journal Diameter Stamped | 82 owners/operators | 1 stamp | 15 minutes | .25
230.116—Oil Tanks | 82 owners/operators | 30 stencils | 30 minutes | 15

Total Estimated Annual Responses: 4,868.

Total Estimated Annual Burden: 18,865 hours.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Brett Andrew Jortland,
Acting Deputy Chief Counsel.

[FR Doc. 2018-08789 Filed 4-25-18; 8:45 am]

BILLING CODE 4910-06-P